DEPARTMENT OF EDUCATION

[Docket No.: ED-2020-SCC-0170]

Evaluating the DC Opportunity Scholarship Program After the 2017 Reauthorization; Correction

AGENCY: Department of Education (ED), Institute for Education Sciences (IES).

ACTION: Notice; Correction.

SUMMARY: On November 5, 2020, the U.S. Department of Education published a 60-day comment period notice in the Federal Register with FR DOC# 2020-24608 (Page 70596, First Column, Second Column; Page 70597, First Column) seeking public comment for an information collection entitled, “Evaluating the DC Opportunity Scholarship Program After the 2017 Reauthorization.” The docket number is incorrect. The correct docket number is ED-2020-SCC-0173.

The PRA Coordinator, Strategic Collections and Clearance, Office of the Chief Data Officer, Office of Planning, Evaluation and Policy Development, hereby issues a correction notice as required by the Paperwork Reduction Act of 1995.

Dated: November 3, 2020.
Stephanie Valentine,
PRA Coordinator, Strategic Collections and Clearance, Office of the Chief Data Officer, Office of Planning, Evaluation and Policy Development.

[FR Doc. 2020-24953 Filed 11-9-20; 8:45 am]

BILLING CODE 4000-01-P